SECURITIES AND EXCHANGE COMMISSION

Sunshine Act Meeting

Notice is hereby given that, pursuant to the provisions of the Government in the Sunshine Act, Public Law 94-409, the Securities and Exchange Commission will hold an Open Meeting on Wednesday, April 27, 2016 at 10:00 a.m. in the Auditorium, Room L-002.

The subject matter of the Open Meeting will be:

1. The Commission will consider whether to publish for comment a proposed national market system (“NMS”) plan to create, implement, and maintain a consolidated audit trail (“CAT”), submitted pursuant to Rule 613 of Regulation NMS.

At times, changes in Commission priorities require alterations in the scheduling of meeting items.

For further information and to ascertain what, if any, matters have been added, deleted, or postponed, please contact: The Office of the Secretary at (202) 551-5400.

Dated: April 20, 2016.
Brent J. Fields,
Secretary.

[FR Doc. 2016-09644 Filed 4-21-16; 11:15 am]

BILLING CODE 8011-01-P